NUCLEAR REGULATORY COMMISSION

[Docket No. 50-440-CivP, ASLBP No. 01-784-01-CivP]

First Energy Operating Co., Perry Nuclear Power Plant; Establishment of Atomic Safety and Licensing Board

Pursuant to delegation by the Commission dated December 29, 1972, published in the Federal Register, 37 FR 28,710 (1972), and §§ 2.105, 2.700, 2.702, 2.714, 2.714a, 2.717, 2.721, and 2.772(j) of the Commission's Regulations, all as amended, an Atomic Safety and Licensing Board is being established to preside over the following proceeding. First Energy Operating Company, Perry Nuclear Power Plant, Order Imposing Civil Monetary Penalty.

This Board is being established pursuant to the request of First Energy Operating Company, the licensee for the Perry Nuclear Power Plant, for a hearing regarding an Order issued by the Director, Office of Enforcement, dated August 14, 2000, entitled “Order Imposing Civil Monetary Penalty” (65 FR 49,610 (Aug. 14, 2000)).

The Board is comprised of the following administrative judges:

Charles Bechhoefer, Chairman, Atomic Safety and Licensing Board Panel, U.S. Nuclear Regulatory Commission, Washington, DC 20555-0001

Ann Marshall Young, Atomic Safety and Licensing Board Panel, U.S. Nuclear Regulatory Commission, Washington, DC 20555-0001

Dr. Richard F. Cole, Atomic Safety and Licensing Board Panel, U.S. Nuclear Regulatory Commission, Washington, DC 20555-0001

All correspondence, documents and other materials shall be filed with the Judges in accordance with 10 CFR 2.701.

Issued at Rockville, MD, this 27th day of October 2000.
G. Paul Bollwerk III,
Chief Administrative Judge, Atomic Safety and Licensing Board Panel.

[FR Doc. 00-28051 Filed 10-31-00; 8:45 am]

BILLING CODE 7590-01-P